DEPARTMENT OF THE INTERIOR

Bureau of Land Management

[LLWY9300000 L16100000.DP0000.LXSISGST0000]

Notice of Availability of the Wyoming Greater Sage-Grouse Draft Land Use Plan Amendments and Draft Environmental Impact Statement

AGENCY: Bureau of Land Management, Interior.

ACTION: Notice of Availability.

SUMMARY: In accordance with the National Environmental Policy Act of 1969, as amended, and the Federal Land Policy and Management Act of 1976, as amended, the Bureau of Land Management (BLM) and the US Forest Service (USFS) have prepared the Wyoming Greater Sage-Grouse Draft Land Use Plan (LUP) Amendments and Draft Environmental Impact Statement (EIS) for the BLM Casper, Kemmerer, Newcastle, Pinedale, Rawlins, and Rock Springs field offices and Bridger-Teton National Forest, Medicine Bow National Forest, and Thunder Basin National Grassland Planning Units and by this notice is announcing the opening of the comment period.

DATES: To ensure that comments will be considered, the BLM and USFS must receive written comments on the Draft LUP Amendments/Draft EIS within 90 days following the date the Environmental Protection Agency publishes notice of the Draft LUP Amendments/Draft EIS in the Federal Register. The BLM and USFS will announce future meetings or hearings and any other public participation activities at least 15 days in advance through public notices, media releases, and/or mailings.

ADDRESSES: You may submit comments related to the Wyoming Greater Sage-Grouse Draft LUP Amendments/Draft EIS by any of the following methods:

• Web site: www.blm.gov/wy/st/en/programs/Planning/amendments/sage-grouse.html

• Email: Sagegrouse_Amendment_WY@blm.gov

• Fax: 307-775-6129

• Mail: BLM Wyoming State Office, 5353 Yellowstone Road, Cheyenne, WY 82003.

Copies of the Wyoming Greater Sage-Grouse Draft LUP Amendments/Draft EIS are available at the BLM Wyoming State Office at the above address or on the Web site at: www.blm.gov/wy/st/en/programs/Planning/amendments/sage-grouse.html

FOR FURTHER INFORMATION CONTACT: Lisa Solberg Schwab, Wyoming Greater Sage-Grouse Amendment Project Manager, by telephone, 307-367-5340; at the address above; or by email, lsolbergschwab@blm.gov.

Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The BLM prepared the Wyoming Greater Sage-Grouse Draft LUP Amendments/Draft EIS to address a range of alternatives focused on specific conservation measures across the Wyoming range of the Greater Sage-grouse (GRSG). This Draft LUPAmendments/Draft EIS is one of 15 separate planning efforts that are being undertaken as part of the BLM and USFS National Greater Sage-grouse Planning Strategy. The Draft LUP Amendments/Draft EIS may amend the RMPs for the BLM Casper, Kemmerer, Newcastle, Pinedale, Rawlins and Rock Springs field offices, as well as the LRMPs for the Bridger-Teton and Medicine Bow National Forests and the Thunder Basin National Grassland. Current management decisions for resources are described in the following RMPs/LRMPs:

• Casper RMP (2007)

• Kemmerer RMP (2010)

• Newcastle RMP (2000)

• Pinedale RMP (2008)

• Rawlins RMP (2008)

• Green River RMP (1997) (being revised under the Rock Springs RMP)

• Bridger-Teton National Forest LRMP (1990)

• Medicine Bow National Forest LRMP (2003)

• Thunder Basin National Grassland LRMP (2002)

The EIS planning area includes approximately 40 million acres of BLM, National Park Service, USFS, U.S. Bureau of Reclamation, State, local, and private lands located in northwestern, southwestern, southeastern, and northeastern Wyoming in 11 counties (Albany, Carbon, Converse, Fremont, Lincoln, Natrona, Niobrara, Sublette, Sweetwater, Uinta and Weston). Within the EIS decision area, the BLM and the USFS administer approximately 16 million surface acres and 16 million acres of Federal oil and gas mineral (subsurface) estate. Surface management decisions made as a result of this Draft LUP Amendments/Draft EIS will apply only to the BLM- and the USFS-administered lands in the decision area. The decision area is defined as those BLM- and USFS-administered lands and Federal mineral estate within three categories of habitat identified by the Wyoming Game and Fish Department:

• Core Habitat—Areas identified as having the highest conservation value for maintaining sustainable GRSG populations, including breeding, late brood-rearing and winter concentration areas.

• General Habitat—Areas of seasonal or year-round habitat outside of priority habitat.

• Connectivity Habitat—Areas identified as broader regions of connectivity important to facilitating the movement of GRSG and maintain ecological processes.

The formal public scoping process for the LUP Amendments/EIS began on December 9, 2011, with the publication of a Notice of Intent in the Federal Register (76 FR 77008), and ended on March 23, 2012. The BLM held five scoping open houses in January and February 2011. The BLM used public scoping comments to help identify planning issues that directed the formulation of alternatives and framed the scope of analysis in the Draft LUP Amendments/Draft EIS. The scoping process was also used to introduce the public to preliminary planning criteria, which set limits on the scope of the Draft LUP Amendments/Draft EIS.

Major issues considered in the Draft LUP Amendments/Draft EIS include special status species management (GRSG specifically), energy and mineral development, lands and realty (including transmission), livestock grazing, fire, wild horses, vegetation management, special management areas (ACEC nominations), socioeconomics (particularly impacts to local communities) and invasive species.

The Draft LUP Amendments/Draft EIS evaluates five alternatives in detail, including the No Action Alternative (Alternative A) and four action alternatives (Alternatives B, C, D, and E). The BLM identified Alternative E as the preferred alternative. Identification of this alternative, however, does not represent final agency direction, and the Proposed LUP Amendments/Final EIS may reflect changes or adjustments based on information received during public comment, from other new information, or from changes in BLM policies or priorities. The Proposed LUP Amendments/Final EIS may include objectives and actions described in the other analyzed alternatives or otherwise within the spectrum of the alternatives analyzed.

Alternative A would retain the current management goals, objectives, and direction specified in the current RMPs for each field office and the LRMPs for the Bridger-Teton, Medicine Bow, and Thunder Basin National Forests/Grasslands. Alternative B includes conservation measures from the Greater Sage-grouse National Technical Team Report. Alternative C includes conservation measures submitted by various conservation groups to the BLM. Alternative C also includes the proposed adoption of an Area of Critical Environmental Concern (ACEC). Alternatives D and E include conservation measures the BLM developed with the cooperating agencies.

Pursuant to 43 CFR 1610.7-2(b), this notice announces a concurrent public comment period on proposed ACECs. One ACEC is proposed in Alternative C. The Sage-grouse Habitat ACEC (approximately 9,876,565 acres) would include the following management prescriptions: Close to fluid mineral leasing; designate as a right-of-way exclusion area; close to livestock grazing; allow vegetation treatments only for the benefit of GRSG; and recommend withdrawal from mineral entry to the Secretary of the Interior.

Please note that public comments and information submitted including names, street addresses and email addresses of persons who submit comments will be available for public review and disclosure at the above address during regular business hours (8 a.m. to 4 p.m.), Monday through Friday, except holidays.

Before including your address, phone number, email address, or other personal identifying information in your comment, you should be aware that your entire comment—including your personal identifying information—may be made publicly available at any time. While you may ask us in your comment to withhold your personal identifying information from public review, we cannot guarantee that we will be able to do so.

Authority: 40 CFR 1506.6, 40 CFR 1506.10, 43 CFR 1610.2

Donald A. Simpson,
State Director, Wyoming.

[FR Doc. 2013-30991 Filed 12-26-13; 8:45 am]

BILLING CODE 4310-22-P